DEPARTMENT OF JUSTICE

Notice of Lodging of Proposed Consent Decree Modification Under the Clean Water Act

On January 19, 2021, the Department of Justice lodged with the United States District Court for the District of Alaska a proposed modification of the 2016 Consent Decree in United States and State of Alaska v. City of Palmer, 3:16 cv 000204.

The proposed modification seeks to make changes to the Consent Decree entered by the Court on December 22, 2016 that required the City of Palmer (City) to implement various upgrades to its wastewater treatment plant (WWTP) to enable the City to comply with its National Pollutant Discharge Elimination System permit issued under the Clean Water Act, 33 U.S.C. 1342. Among these upgrades, the Consent Decree required that by August 31, 2020 the City install and operate secondary clarifiers which are basins specifically designed to provide effective gravity separation of settleable and suspended solids in biologically treated wastewater. See Consent Decree ¶ 11.d. The proposed modification extends this deadline until July 1, 2022 and requires that in the interim City undertake certain alternative measures that may enable it to meet its permit limits without the clarifiers.

The publication of this notice opens a period for public comment on the proposed modification. Comments should be addressed to the Assistant Attorney General, Environment and Natural Resources Division and should refer to United States and State of Alaska v. City of Palmer, D.J. Ref. No. 90-5-1-1-11214. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed modification may be examined and downloaded at this Justice Department website: https://www.justice.gov/enrd/consent-decrees. We will provide a paper copy of the proposed modification upon written request and payment of reproduction costs. Please mail your request and payment to: Consent Decree Library, U.S. DOJ—ENRD, P.O. Box 7611, Washington, DC 20044-7611.

Please enclose a check or money order for $36.50 (25 cents per page reproduction cost) payable to the United States Treasury.

Susan Akers,
Assistant Section Chief, Environmental Enforcement Section, Environment and Natural Resources Division.

[FR Doc. 2021-02733 Filed 2-9-21; 8:45 am]

BILLING CODE 4410-15-P